DEPARTMENT OF ENERGY

Federal Energy Regulatory Commission

[Docket No. RP04-375-001]

Columbia Gas Transmission Corporation; Notice of Compliance Filing

August 11, 2004.

Take notice that on August 6, 2004, Columbia Gas Transmission Corporation (Columbia) tendered for filing as part of its FERC Gas Tariff, Second Revised Volume No. 1, Twelfth Revised Sheet No. 395, with a proposed effective date of August 1, 2004.

Columbia states that on July 1, 2004, it filed revised tariff sheets to eliminate the Gas Research Institute (GRI) surcharge from its rates pursuant to a January 21, 1998, Stipulation and Agreement approved by the Commission. Gas Research Institute, 83 FERC ¶61,093 (1998); order on reh'g, 83 FERC ¶ 61,331 (1998). On July 28, 2004, the Commission accepted Columbia's proposed revised tariff sheets (July 28 Order) subject to Columbia making a tariff sheet revision.

Columbia states that it was directed to remove the GRI reference from Section 20.2, Apportionment to Discounts, in the General Terms and Conditions of its Tariff. The Commission required that Columbia make the revision to the tariff sheet within 10 days of the date of issuance of the July 28 Order. Columbia states that the revised tariff sheet listed above reflects the change required by the Commission in the July 28 Order.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1840 Filed 8-18-04; 8:45 am]

BILLING CODE 6717-01-P